DEPARTMENT OF AGRICULTURE

Submission for OMB Review; Comment Request

October 29, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Brucellosis in Sheep, Goats, Horses, and Payment of Indemnity.

OMB Control Number: 0579-0185.

Summary of Collection: Title 7, U.S.C. 8301, the Animal Health Protection Act, authorizes the Secretary of Agriculture to take such measures as he deems proper to prevent the introduction or dissemination of any contagious or communicable disease of animals or live poultry from a foreign country into the United States or from one State to another. The agency charged with carrying out this disease prevention mission is the Animal and Plant Health Inspection Service (APHIS). Disease prevention is the most effective method for maintaining a healthy animal population and enhancing APHIS' ability to compete in the world market of animal and animal product trade. Brucellosis is a contagious disease that causes loss of young through spontaneous abortion or birth of weak offspring, reduced milk production, and infertility. It is mainly a disease of cattle, bison, and swine. Sheep, goats, and horses are also susceptible, but are rarely infected. There is no economically feasible treatment for brucellosis in livestock. APHIS will collect information using APHIS forms VS 1-23, Indemnity Claim, VS 4-33, Test Records, and VS 1-27, Permit for Movement of Restricted Animals.

Need and Use of the Information: APHIS will collect information from the use of official seals and animal identification; indemnity claims, test records, and permits; and the submission of proof of destruction documentation and requests for extension of certain program-related deadlines. The information will provide indemnity to owners of sheep, goats, or horses destroyed because of brucellosis.

Without the information, it would make it impossible for APHIS to effectively operate an indemnity program for sheet, goats, and horses destroyed because of brucellosis.

Description of Respondents: Business or other for-profit; State, Local and Tribal Government.

Number of Respondents: 3.

Frequency of Responses: Reporting: On occasion.

Total Burden Hours: 2.

Ruth Brown,
Departmental Information Collection Clearance Officer.

[FR Doc. E7-21516 Filed 10-31-07; 8:45 am]

BILLING CODE 3410-34-P